DEPARTMENT OF TRANSPORTATION

Federal Aviation Administration

Public Notice for Waiver of Aeronautical Land-Use Assurance, James M. Cox Dayton International Airport, Dayton, OH

AGENCY: Federal Aviation Administration, DOT.

ACTION: Notice of intent of waiver with respect to land.

SUMMARY: The Federal Aviation Administration (FAA) is considering a proposal to change a portion of the airport from aeronautical use to non-aeronautical use and to authorize the release of 6.03 acres of airport property for the development of a corporate facility. The land consists of 2 parcels. Both parcels were acquired under grant 9-33-025-C813. There are no impacts to the airport by allowing the airport to lease the property. The land is not needed for aeronautical use. Approval does not constitute a commitment by the FAA to financially assist in the lease of the subject airport property nor a determination of eligibility for grant-in-aid funding from the FAA. The disposition of proceeds from the lease of the airport property will be in accordance with FAA's Policy and Procedures Concerning the Use of Airport Revenue, published in the Federal Register on February 16, 1999. In accordance with section 47107 (h) of title 49, United States Code, this notice is required to be published in the Federal Register 30 days before modifying the land-use assurance that requires the property to be used for an aeronautical purpose.

DATES: Comments must be received on or before December 10, 2007.

ADDRESSES: Written comments on the Sponsor's request must be delivered or mailed to: Irene R. Porter, Program Manager, Detroit Airports District Office, 11677 South Wayne Road, Suite 107, Romulus, MI 48174.

FOR FURTHER INFORMATION CONTACT: Irene R. Porter, Program Manager, Federal Aviation Administration, Great Lakes Region, Detroit Airports District Office, DET ADO-607, 11677 South Wayne Road, Suite 107, Romulus, Michigan 48174. Telephone Number (734-229-2915)/FAX Number (734-229-2950). Documents reflecting this FAA action may be reviewed at this same location or at James M. Cox Dayton International Airport, Dayton, Ohio.

SUPPLEMENTARY INFORMATION: Parcel 1 Legal Description:

Situated in the City of Dayton, County of Montgomery, being part of Lot numbered 81143 of the consecutive numbers of lots on the revised plat of said City of Dayton, being more particularly described as follows:

Beginning at the centerline intersection of Peters Pike and vacated Old Springfield Pike; thence with the centerline of Peters Pike North 00° 15′ 59″ West 31.08 feet to a point; thence North 89° 44′ 01″ East 30.00 feet to a point in the east right of way of said Peters Pike; thence along the future north right of way of Old Springfield Pike North 87° 40′ 00″ East 1305.41 feet to a point; thence continuing with said right of way South 89° 09′ 51″ East 239.21 feet to a point, said point being the POINT OF BEGINNING OF THE PARCEL herein described; thence leaving said Right of Way North 00° 15′ 59″ West 747.08 feet to a point; thence North 89° 44′ 02″ East 321.58 feet to a point; thence South 00° 15′ 59″ East 747.08 feet to a point in the future North Right of Way of Old Springfield Pike; thence continuing with said Right of Way South 89° 44′ 02″ West 321.58 feet to the true point of beginning, containing 5.515 acres more or less.

Parcel 2 Legal Description:

Situated in the City of Dayton, County of Montgomery, State of Ohio, and being part of Lot 81143 of the consecutive lot numbers in the City of Dayton and being more particularly described as follows:

Beginning at the centerline intersection of Peters Pike and vacated Old Springfield Pike; thence with the centerline of Peters Pike North 00° 15′ 59″ West 31.08 feet to a point; thence North 89° 44′ 01″ East 30.00 feet to a point in the east right of way of said Peters Pike; thence along the future north right of way of Old Springfield Pike North 87° 40′ 00″ East 1305.41 feet to a point; thence continuing with said right of way South 89° 09′ 51″ East 239.21 feet to a point, thence north 89° 44′ 02″ East a distance of 321.58 feet, said point being THE TRUE POINT OF BEGINNING OF THE LEASED PARCEL herein described; thence leaving said right of way North 00° 15′ 59″ West 747.08 feet to a point; thence North 89° 44′ 02″ East 30.00 feet to a point; thence South 00° 15′ 59″ East 747.08 feet to a point; thence South 89° 44′ 02″ West 30.00 feet to the true point of beginning, containing 0.515 acres more or less, subject to all public roads and easements of record.

Issued in Romulus, Michigan, on October 31, 2007.
Matthew J. Thys,
Manager, Detroit Airports District Office, FAA, Great Lakes Region.

[FR Doc. 07-5542 Filed 11-07-07; 8:45 am]

BILLING CODE 4910-13-M